DEPARTMENT OF ENERGY

Federal Energy Regulatory Commission

Combined Notice of Filings # 1

Take notice that the Commission received the following electric rate filings:

Docket Numbers: ER24-697-001.

Applicants: Westlands Solar Blue (OZ) Owner, LLC.

Description: Tariff Amendment: Supplement to Application for MBR Authority to be effective 12/19/2023.

Filed Date: 2/21/24.

Accession Number: 20240221-5224.

Comment Date: 5 p.m. ET 3/13/24.

Docket Numbers: ER24-698-001.

Applicants: Castanea Project, LLC.

Description: Tariff Amendment: Supplement to Application for MBR Authority to be effective 12/19/2023.

Filed Date: 2/22/24.

Accession Number: 20240222-5000.

Comment Date: 5 p.m. ET 3/14/24.

Docket Numbers: ER24-1240-001.

Applicants: Public Service Company of New Mexico.

Description: Amendment to February 8, 2024, Notice of Cancellation of Public Service Company of New Mexico.

Filed Date: 2/20/24.

Accession Number: 20240220-5314.

Comment Date: 5 p.m. ET 3/12/24.

Docket Numbers: ER24-1291-000.

Applicants: Consolidated Edison Company of New York, Inc.

Description: Consolidated Edison Company of New York, Inc. submits Request for limited one-time waiver of section 7.4.1 of the New York Independent System Operator's Market Administration and Control Area Services Tariff.

Filed Date: 2/16/24.

Accession Number: 20240216-5290.

Comment Date: 5 p.m. ET 3/8/24.

Docket Numbers: ER24-1292-000.

Applicants: Tri-State Generation and Transmission Association, Inc.

Description: Tariff Amendment: Notice of Cancellation of BP 119—RS 313 to be effective 1/1/2024.

Filed Date: 2/21/24.

Accession Number: 20240221-5206.

Comment Date: 5 p.m. ET 3/13/24.

Docket Numbers: ER24-1293-000.

Applicants: Public Service Company of New Mexico.

Description: Petition for Limited Waiver of Public Service Company of New Mexico.

Filed Date: 2/20/24.

Accession Number: 20240220-5316.

Comment Date: 5 p.m. ET 3/12/24.

Docket Numbers: ER24-1294-000.

Applicants: Ameren Transmission Company of Illinois.

Description: § 205(d) Rate Filing: Submission of a Letter Agreement to be effective 2/23/2024.

Filed Date: 2/22/24.

Accession Number: 20240222-5031.

Comment Date: 5 p.m. ET 3/14/24.

Docket Numbers: ER24-1295-000.

Applicants: Moscow Development Company, LLC.

Description: Moscow Development Company, LLC Requests Waiver of Section 3.4 of Schedule 22 of the ISO New England Inc., Open Access Transmission Tariff.

Filed Date: 2/14/24.

Accession Number: 20240214-5236.

Comment Date: 5 p.m. ET 3/6/24.

Docket Numbers: ER24-1296-000.

Applicants: Southwest Power Pool, Inc.

Description: § 205(d) Rate Filing: 1Q2024 Tariff Clean-Up Filing to be effective 2/1/2023.

Filed Date: 2/22/24.

Accession Number: 20240222-5043.

Comment Date: 5 p.m. ET 3/14/24.

Docket Numbers: ER24-1297-000.

Applicants: Midcontinent Independent System Operator, Inc.

Description: § 205(d) Rate Filing: 2024-02-22_SA 4125 UE-Kelso 2 Solar 1st Rev GIA (J1299) to be effective 4/23/2024.

Filed Date: 2/22/24.

Accession Number: 20240222-5055.

Comment Date: 5 p.m. ET 3/14/24.

Docket Numbers: ER24-1299-000.

Applicants: Midcontinent Independent System Operator, Inc.

Description: § 205(d) Rate Filing: 2024-02-22_SA 4243 UE-Kelso 2 Solar FSA (J1299) to be effective 4/23/2024.

Filed Date: 2/22/24.

Accession Number: 20240222-5063.

Comment Date: 5 p.m. ET 3/14/24.

Docket Numbers: ER24-1300-000.

Applicants: New York Independent System Operator, Inc., New York State Electric & Gas Corporation.

Description: § 205(d) Rate Filing: New York Independent System Operator, Inc. submits tariff filing per 35.13(a)(2)(iii: NYISO-NYSEG Joint 205: SGIA KCE NY10 SA2830 (CEII) to be effective 2/7/2024.

Filed Date: 2/22/24.

Accession Number: 20240222-5074.

Comment Date: 5 p.m. ET 3/14/24.

Docket Numbers: ER24-1301-000.

Applicants: American Transmission Systems, Incorporated, PJM Interconnection, L.L.C.

Description: § 205(d) Rate Filing: American Transmission Systems, Incorporated submits tariff filing per 35.13(a)(2)(iii: ATSI submits one Construction Agreement, SA No. 6935 to be effective 4/23/2024.

Filed Date: 2/22/24.

Accession Number: 20240222-5087.

Comment Date: 5 p.m. ET 3/14/24.

Docket Numbers: ER24-1302-000.

Applicants: Idaho Power Company.

Description: § 205(d) Rate Filing: IPC/BPA Third Revised Service Agreement No. 334 to be effective 5/1/2024.

Filed Date: 2/22/24.

Accession Number: 20240222-5088.

Comment Date: 5 p.m. ET 3/14/24.

Docket Numbers: ER24-1303-000.

Applicants: National Grid Generation LLC.

Description: § 205(d) Rate Filing: A&R PSA Amendment No. 5 to be effective 5/1/2024.

Filed Date: 2/22/24.

Accession Number: 20240222-5095.

Comment Date: 5 p.m. ET 3/14/24.

Docket Numbers: ER24-1304-000.

Applicants: Arizona Public Service Company.

Description: § 205(d) Rate Filing: OATT Modifications, Part III and IV to be effective 4/23/2024.

Filed Date: 2/22/24.

Accession Number: 20240222-5109.

Comment Date: 5 p.m. ET 3/14/24.

Docket Numbers: ER24-1305-000.

Applicants: Mid-Atlantic Interstate Transmission, LLC, PJM Interconnection, L.L.C.

Description: § 205(d) Rate Filing: Mid-Atlantic Interstate Transmission, LLC submits tariff filing per 35.13(a)(2)(iii: MAIT, LLC w/PPL Electric—Filing of a Revised IA No. 941 to be effective 4/23/2024.

Filed Date: 2/22/24.

Accession Number: 20240222-5120.

Comment Date: 5 p.m. ET 3/14/24.

Take notice that the Commission received the following public utility holding company filings:

Docket Numbers: PH24-7-000.

Applicants: Spire Inc.

Description: Spire Inc. submits FERC-65A Notice of Change in Fact to Waiver Notification.

Filed Date: 2/20/24.

Accession Number: 20240220-5310.

Comment Date: 5 p.m. ET 3/12/24

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 22, 2024.
Debbie-Anne A. Reese,
Acting Secretary.

[FR Doc. 2024-04186 Filed 2-28-24; 8:45 am]

BILLING CODE 6717-01-P